DEPARTMENT OF THE INTERIOR

National Park Service

Notice of Inventory Completion: U.S. Department of Agriculture, Forest Service, Santa Fe National Forest, Santa Fe, NM, and Maxwell Museum of Anthropology, University of New Mexico, Albuquerque, NM

AGENCY: National Park Service, Interior.

ACTION: Notice.

Notice is here given in accordance with the Native American Graves Protection and Repatriation Act (NAGPRA), 25 U.S.C. 3003, of the completion of an inventory of human remains and associated funerary objects in the control of the U.S. Department of Agriculture, Forest Service, Santa Fe National Forest, Santa Fe, NM, and in the physical custody of the Maxwell Museum of Anthropology, University of New Mexico, Albuquerque, NM. The human remains and associated funerary objects were removed from site LA 38962, Sandoval County, NM.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by U.S. Department of Agriculture, Forest Service, Santa Fe National Forest and Maxwell Museum of Anthropology professional staff in consultation with representatives of the Pueblo of Jemez, New Mexico and Pueblo of Zia, New Mexico.

Between 1939 and 1949, human remains representing four individuals were removed from site LA 38962 during legally authorized excavations undertaken by the University of New Mexico Archeological Field School. Site LA 38962 is located in the Jemez Ranger District, Santa Fe National Forest, Sandoval County, NM. No known individuals were identified. The 12 associated funerary objects are 10 pottery sherds, 1 piece of wood, and 1 piece of animal bone.

Site LA 38962 has been identified as an Anasazi habitation site (A.D. 1300-1600) based on ceramics, architecture, and site organization. Continuities of ethnographic materials, technology, and architecture indicate affiliation of this site with the present-day Pueblo of Jemez. Oral traditions of the Pueblo of Jemez support affiliation with the Anasazi sites in this area of north-central New Mexico.

Officials of the U.S. Department of Agriculture, Forest Service, Santa Fe National Forest have determined that, pursuant to 25 U.S.C. 3001 (9-10), the human remains described above represent the physical remains of four individuals of Native American ancestry. Officials of the U.S. Department of Agriculture, Forest Service, Santa Fe National Forest also have determined that, pursuant to 25 U.S.C. 3001 (3)(A), the 12 objects described above are reasonably believed to have been placed with or near individual human remains at the time of death or later as part of the death rite or ceremony. Lastly, officials of the U.S. Department of Agriculture, Forest Service, Santa Fe National Forest have determined that, pursuant to 25 U.S.C. 3001 (2), there is a relationship of shared group identity that can be reasonably traced between the Native American human remains and associated funerary objects and the Pueblo of Jemez, New Mexico.

Representatives of any other Indian tribe that believes itself to be culturally affiliated with the human remains and associated funerary objects should contact Dr. Frank E. Wozniak, NAGPRA Coordinator, Southwestern Region, U.S. Department of Agriculture, Forest Service, 333 Broadway Boulevard, SE, Albuquerque, NM 87102, telephone (505) 842-3238, FAX (505) 842-3165, before November 12, 2004. Repatriation of the human remains and associated funerary objects to the Pueblo of Jemez, New Mexico may proceed after that date if no additional claimants come forward.

The U.S. Department of Agriculture, Forest Service, Santa Fe National Forest is responsible for notifying the Pueblo of Jemez, New Mexico and the Pueblo of Zia, New Mexico that this notice has been published.

Dated: August 24, 2004.
Sherry Hutt,
Manager, National NAGPRA Program.

[FR Doc. 04-22823 Filed 10-8-04; 8:45 am]

BILLING CODE 4312-50-U